DEPARTMENT OF TRANSPORTATION

Federal Aviation Administration

Office of Commercial Space Transportation; Notice of Availability of the FAA's Finding of No Significant Impact (FONSI) for NASA's Final Supplemental Environmental Assessment for the Antares 200 Configuration Expendable Launch Vehicle at Wallops Flight Facility (SEA)

AGENCY: Federal Aviation Administration (FAA), Department of Transportation (DOT).

ACTIONS: Notice of availability of the FONSI.

SUMMARY: In accordance with the National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of the FAA's FONSI for the SEA.

FOR FURTHER INFORMATION CONTACT: Mr. Douglas W. Graham, Office of Commercial Space Transportation, Federal Aviation Administration, 800 Independence Ave. SW., Suite 325, Washington, DC 20591; email Doug.Graham@faa.gov; telephone (202) 267-8568.

SUPPLEMENTARY INFORMATION: The SEA was prepared by NASA to analyze the potential environmental impacts of the FAA modifying Orbital ATK's Launch Operator License to include launches of the modified Antares 200 medium lift launch vehicle from NASA's Wallops Flight Facility in Virginia. NASA issued a FONSI on August 29, 2015. Based on its independent review and consideration of the SEA, the FAA concurs with the analysis of impacts and findings in the SEA and formally adopts the SEA in its entirety. After reviewing and analyzing available data and information on existing conditions and potential impacts, including the SEA, the FAA has determined that its Proposed Action of modifying Orbital ATK's launch license to conduct 200 Configuration Antares launch operations at MARS Pad 0-A would not significantly affect the quality of the human environment within the meaning of NEPA. Therefore, the preparation of an environmental impact statement is not required, and the FAA is issuing this FONSI. The FAA made this determination in accordance with applicable environmental laws and FAA regulations.

The FAA has posted the FONSI on the FAA Office of Commercial Space Transportation Web site: http://www.faa.gov/about/office_org/headquarters_offices/ast/environmental/nepa_docs/review/operator/.

A copy of the SEA may be found at: http://sites.wff.nasa.gov/code250/Antares_FSEA.html.

A copy of the Biological Opinon issued by the Fish and Wildlife Service regarding this action may be found at: http://www.faa.gov/about/office_org/headquarters_offices/ast/environmental/nepa_docs/review/launch/.

Issued in Washington, DC, on March 9, 2016.
Daniel Murray,
Manager, Space Transportation Development Division.

[FR Doc. 2016-05938 Filed 3-15-16; 8:45 am]

BILLING CODE 4310-13-P